DEPARTMENT OF HEALTH AND HUMAN SERVICES

Centers for Disease Control and Prevention

[30Day-07-06BK]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Assessment of Occupational Exposure Management—New—Division of Healthcare Quality Promotion (DHQP), National Center for Preparedness, Detection, and Control of Infectious Diseases (NCPDCID), Centers for Disease Control and Prevention (CDC).

Background and Brief Description

The purpose of this project is to assess how healthcare facilities manage occupational blood exposures as part of a larger plan to prevent the transmission of blood borne pathogens. While the United States Public Health Service protocols on management of occupational exposure are widely distributed, the awareness and implementation of these protocols by providers of health services are unknown.

In this project, CDC will randomly survey four types of healthcare facilities, acute care facilities, ambulatory surgery centers, long-term care facilities, and dialysis centers. The facility will be asked to complete the survey which asks questions about facility awareness and preparation; general occupational exposure management practices; occupational exposures to hepatitis B virus (HBV), hepatitis C virus (HCV), and human immunodeficiency virus (HIV); post-exposure prophylaxis; and exposure prevention measures. Facilities may complete the survey by paper and pencil or on the web. The results of the survey will be used to provide healthcare facilities with up-to-date information on infection control.

There are no costs to the respondents other than their time to complete the survey. The total estimated annualized burden hours are 1,773.

Respondents | Number of respondents | Number of responses per respondent | Average burden per response (in hours)
Acute care facilities | 865 | 1 | 20/60
Ambulatory care facilities | 353 | 1 | 20/60
Long-term care facilities | 3,634 | 1 | 20/60
Dialysis Centers | 468 | 1 | 20/60

Dated: April 18, 2007.
Maryam Daneshvar,
Acting Reports Clearance Officer, Centers for Disease Control and Prevention.

[FR Doc. E7-7732 Filed 4-23-07; 8:45 am]

BILLING CODE 4163-18-P